ENVIRONMENTAL PROTECTION AGENCY

[FRL-7217-8]

EPA Science Advisory Board; Notification of Public Advisory Committee Meetings

Pursuant to the Federal Advisory Committee Act, Public Law 92-463, notice is hereby given that the Drinking Water Committee (DWC) of the US EPA Science Advisory Board (SAB) will meet via public teleconference on the date and at the time noted below. All times noted are Eastern Time. The meeting is open to the public, however, seating is limited and available on a first come basis. Important Notice: Documents that are the subject of SAB reviews are normally available from the originating EPA office and are not available from the SAB Office—information concerning availability of documents from the relevant Program Office is included below.

The Drinking Water Committee of the US EPA Science Advisory Board (SAB), will conduct a public teleconference meeting on June 11, 2002. The meeting will begin at 1 pm and adjourn no later than 4 p.m. the same day. The meeting will be coordinated through a conference call connection in Room 6013 in the USEPA, Ariel Rios Building North, 1200 Pennsylvania Avenue, NW., Washington, DC 20004. The public is encouraged to attend the meeting in the conference room noted above, however, the public may also attend through a telephonic link if lines are available. Additional instructions about how to participate in the conference call can be obtained by calling Ms. Mary Winston at (202) 564-4538, or via e-mail at winston.mary@epa.gov. Presentation slides will be placed on the SAB Web site (www.epa.gov/sab/) prior to the start of the meeting.

Purpose of the Meeting—The primary purpose of this meeting will be for staff from EPA's Office of Water to provide background briefings sufficient for the Committee to develop a systematic plan for responding to the agency request on two topics: (1) Six-Year Review of Existing Regulations Notice of Intent on Review Decisions (6-YR) and (2) Contaminant Candidate List Notice of Intent on Regulatory Determinations (CCL1). The review will NOT be conducted on this conference call. A draft agenda for this meeting will be available from the DFO or Management Assistant approximately one week before the meeting.

Background Information about the 6-Year Review of Existing Regulations: EPA recently announced its preliminary revise/not revise decisions for 68 chemical National Primary Drinking Water Regulations (NPDWRs) and the Total Coliform Rule (TCR) (67 FR 19030; April 17, 2002). The Safe Drinking Water Act (SDWA) requires EPA to periodically review existing NPDWRs and, if appropriate, revise them [Section 1412(b)(9) of SDWA, as amended in 1996]

The primary goal of the Six Year Review is to identify, prioritize and target candidates for regulatory revision that are most likely to result in an increased level of public health protection and/or a substantial cost savings while maintaining the level of public health protection. To address this goal, EPA, in consultation with the National Drinking Water Advisory Council (NDWAC) and other stakeholders, developed a systematic approach, or protocol, for the review of existing NPDWRs. The protocol focused on several key elements, including: (i) Health effects (to identify potential changes in the Maximum Contaminant Level Goal (MCLG or health effects goal) and perhaps to the maximum contaminant level (MCL)); (ii) analytical feasibility (to identify potential changes in analytical feasibility for those contaminants where the Maximum Contaminant Level (MCL) was limited by the measurement feasibility and to review analytical feasibility limitations for contaminants that may have potential changes in the MCLG); (iii) treatment (to evaluate treatment feasibility if potential changes in MCLG/MCL are likely and to evaluate if there is an indication that the best available technology (BAT) or treatment technique (TT) requirements need review); (iv) other regulatory changes (to identify any potential non-MCLG/MCL or non-TT types of changes that apply to public water systems, are ready for rulemaking and are not being addressed under alternative mechanisms); (v) occurrence and exposure (to evaluate the extent of occurrence and exposure where a potential change in health or technology provides a potential basis for revising the regulation); and (vi) economics (to qualitatively consider economic impacts where a health or technology basis may exists for revising the regulation). After receiving public comments and conducting a stakeholders meeting, EPA intends to publish final revise/not revise decisions by Fall of 2002.

Tentative Charge for 6 Year Review of Existing Regulations—EPA is interested in having the EPA Science Advisory Board's advice on: (1) Whether EPA consistently applied its protocol for making determinations of whether or not to revise existing regulations, and (2) whether, in the SAB's view, EPA appropriately documented its analyses in support of the March announcement.

Background Information on the Contaminant Candidate List Regulatory Determinations—The Safe Drinking Water Act (SDWA), as amended in 1996, requires EPA to publish a list of contaminants (referred to as the Contaminant Candidate List, or CCL) to assist in priority-setting efforts. SDWA also requires the Agency to select five or more contaminants from the current CCL and determine, by August 2001, whether or not to regulate these contaminants with a National Primary Drinking Water Regulation (NPDWR). EPA intends to announce its preliminary determination decisions in the Federal Register prior to June 11, 2002.

The CCL was developed with considerable input from the scientific community and stakeholders and published in March of 1998. The CCL contains 60 contaminants (50 chemicals and 10 microbes) that are not subject to any current or proposed NPDWRs. In 1998, 20 of the 60 contaminants were classified as priorities for regulatory determination because EPA believed at that time that there were sufficient data to evaluate both exposure and risk to public health, and to support a determination of whether or not to proceed to promulgation of an NPDWR. Since then, 12 of the 20 priority contaminants were found to have insufficient information to support a regulatory determination. In addition, sodium was added to the list of regulatory determination priorities.

There are 9 contaminants that have sufficient data and information to consider a determination of whether or not to regulate: (i) Acanthamoeba (microscopic amoeba commonly found in the environment); (ii) aldrin and dieldrin (banned insecticides, used primarily on corn and cotton); (iii) hexachlorobutadiene (used primarily to make rubber compounds); (iv) manganese (essential nutrient, occurs naturally, and has a variety of uses); (v) metribuzin (herbicide used primarily on soybeans, potatoes, and alfalfa); (vi) naphthalene (intermediary manufacturing product and moth repellent; (vii) sodium (essential nutrient, naturally occurring element); and (viii) sulfate (present in the diet, naturally occurring element). After receiving public comments and conducting a stakeholders meeting EPA intends to publish a final determination (Fall of 2002). If EPA determines that regulations are necessary, they must be proposed within two years and promulgated eighteen months after the proposal.

SDWA requires consideration of three areas when EPA makes a determination to regulate: (i) Projected adverse health effects, (ii) extent of contaminant occurrence, and (iii) whether regulation would present a meaningful opportunity for health risk reduction (see SDWA section 1412(b)(1)(A)) when EPA makes a determination to regulate.

EPA's evaluation approach is based on recommendations from National Research Council (NRC) and the National Drinking Water Advisory Council (NDWAC). For each of the nine contaminants, EPA evaluated: (i) The sufficiency of current analytical and treatment methods; (ii) the best available peer reviewed data on health effects; and (iii) analytical records on contaminant occurrence. For those contaminants with adequate methods, as well as health effects and occurrence data, EPA employed an approach to assist in making preliminary regulatory determinations that follows the themes recommended by the NRC and NDWAC to satisfy the three SDWA requirements under section 1412(b)(1)(A)(i)-(iii).

Specifically, EPA characterized the human health effects that may result from exposure to a contaminant found in drinking water, and based on this characterization, estimated a health-related bench-mark level for each contaminant. Then, for a given contaminant EPA estimated the number of public water systems and population served by those systems above these bench-mark values, and the geographic distribution using a large number of state occurrence data that broadly reflect national occurrence. Use and environmental release information, and ambient water quality data, were used to augment the State data and evaluate the likelihood of contaminant occurrence. The findings from these evaluations were used to make a preliminary determination on whether to regulate a contaminant based on the three SDWA statutory requirements.

Tentative Charge for Contaminant Candidate List (CCL) Regulatory Determinations—EPA is interested in having the SAB's advice on (i) whether the protocol used by EPA in making regulatory determinations appear to be reasonable, appropriate and consistently applied, in light of limitations of available data and information, and (ii) if the data set used for both health assessments and occurrence assessments is adequate for responding to the 3 statutory requirements for determinations of whether or not to regulate a contaminant on the CCL.

Availability of Review Materials: The availability of background materials for these topics is as follows: a) Six-Year project; contact Wynne Miller by telephone at (202) 564-4887 or by email at miller.wynne@epa.gov; b) CCL1 project; contact Karen Wirth by telephone at (202) 564-5246 or by email at wirth.karen@epa.gov.

FOR FURTHER INFORMATION CONTACT: Any member of the public wishing further information concerning this meeting or wishing to submit brief oral comments (3 minutes or less) must contact Thomas Miller, Designated Federal Officer, EPA Science Advisory Board (1400A), U.S. Environmental Protection Agency, 1200 Pennsylvania Avenue, NW., Washington, DC 20460; telephone (202) 564-4558; FAX (202) 501-0582; or via e-mail at miller.tom@epa.gov. Requests for oral comments must be in writing (e-mail, fax or mail) and received by Mr. Miller no later than noon Eastern Time on Tuesday, June 4, 2002.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: Adobe Acrobat, WordPerfect, Word, or Rich Text files (in IBM-PC/Windows 95/98 format). Those providing written comments and who attend the meeting are also asked to bring 35 copies of their comments for public distribution.

General Information—Additional information concerning the EPA Science Advisory Board, its structure, function, and composition, may be found on the SAB Web site (http://www.epa.gov/sab) and in The FY2001 Annual Report of the Staff Director which is available from the SAB Publications Staff at (202) 564-4533 or via fax at (202) 501-0256. Committee rosters, draft Agendas and meeting calendars are also located on our Web site.

Meeting Access—Individuals requiring special accommodation at this meeting, including wheelchair access to the conference room, should contact Mr. Miller at least five business days prior to the meeting so that appropriate arrangements can be made.

Dated: May 20, 2002.
A. Robert Flaak,
Acting Staff Director, EPA Science Advisory Board.

[FR Doc. 02-13120 Filed 5-23-02; 8:45 am]

BILLING CODE 6560-50-P